DEPARTMENT OF THE INTERIOR

Bureau of Land Management

[BLM_NV_FRN_4500181325]

Notice of Availability of the Final Environmental Impact Statement for Ioneer Rhyolite Ridge LLC's Rhyolite Ridge Lithium-Boron Mine Project, Esmeralda County, Nevada

AGENCY: Bureau of Land Management, Interior.

ACTION: Notice of availability.

SUMMARY: In accordance with the National Environmental Policy Act of 1969, as amended (NEPA), and the Federal Land Policy and Management Act of 1976, as amended (FLPMA), the Bureau of Land Management (BLM) announces the availability of the Final Environmental Impact Statement (EIS) for the Rhyolite Ridge Lithium-Boron Mine Project (Project) proposed by Ioneer Rhyolite Ridge LLC (Ioneer) in Esmeralda County, Nevada.

DATES: The BLM will not issue a decision on the proposal for a minimum of 30 days after the date that the Environmental Protection Agency (EPA) publishes its Notice of Availability (NOA) in the Federal Register. The EPA usually publishes its NOAs on Fridays.

ADDRESSES: The Final EIS and documents pertinent to this proposal are available for review on the BLM's National NEPA Register (ePlanning) at https://eplanning.blm.gov/eplanning-ui/project/2012309/510.

FOR FURTHER INFORMATION CONTACT: Scott Distel, Project Manager, telephone: (775) 635-4093; email: sdistel@blm.gov; address: 50 Bastian Road, Battle Mountain, NV 89820. Individuals in the United States who are deaf, deafblind, hard of hearing, or have a speech disability may dial 711 (TYY, TDD, or TeleBraille) to access telecommunication relay services for contacting Mr. Distel. Individuals outside the United States should use the relay services offered within their country to make international calls to the point-of-contact in the United States.

SUPPLEMENTARY INFORMATION:

Purpose and Need

The BLM's purpose for the action is to respond to Ioneer's proposal as described in its proposed Plan of Operations, and to analyze the potential environmental effects associated with the Proposed Action and alternatives to the Proposed Action. NEPA mandates that the BLM evaluate the potential effects of the Proposed Action and develop alternatives. The BLM's need for the action is established by the BLM's responsibilities under section 302 of FLPMA and the BLM Surface Management Regulations at 43 CFR part 3800 subpart 3809 to respond to a proposed Plan of Operations.

Alternatives A, B, and C

Under Alternative A, the Proposed Action, Ioneer is proposing to construct, operate, close, and reclaim a new lithium-boron mine project in Esmeralda County, Nevada. The proposed Rhyolite Ridge Lithium-Boron Mine Project Plan of Operations boundary would encompass 7,166 acres, which consists of a 6,369-acre Operational Project Area and a 797-acre Access Road and Infrastructure Corridor. The total surface disturbance associated with Alternative A, including existing and reclassified disturbance and exploration, would be 2,306 acres of BLM-administered public lands and private land.

The Project would employ a workforce of approximately 400 to 500 employees during initial construction and approximately 350 employees during operations. The Project would operate 24 hours per day, 365 days per year. The total life of the Project would be 23 years, including four years of construction (years 1 through 4), 17 years of quarrying (years 1 through 17), 13 years of ore processing (years 4 through 17), and 6 additional years of reclamation (Years 18 through 23). Reclamation of disturbed areas would be completed in accordance with BLM and Nevada Division of Environmental Protection regulations. Concurrent reclamation would take place where practicable and safe.

The proposed activities for the Project would include:

• A mine, including an open pit berm and water storage tanks;

• A processing facility, including a contact water pond and diversion channels;

• Three overburden storage facilities (North, West, and Quarry Infill), including contact water ponds and diversion channels;

• One spent ore storage facility, including an underdrain pond and diversion channels;

• Project Area exploration, including access routes and drill sites with sumps;

• Haul roads, service roads, and public road realignment;

• Buckwheat exclusion area and critical habitat fencing; and

• Ancillary facilities including an explosives storage area, communication towers, All-Terrain Vehicle trails, a batch plant, a proposed water supply testing facilities including pipelines, a sewage system including septic leach fields, a dewatering pipeline, growth media stockpiles, stormwater controls and diversions, monitoring wells, laydown yards, and fencing.

Under Alternative B, the North and South OSF Alternative, which is the BLM's preferred alternative, all mine components and operations would be the same as Alternative A, but the facility layout would be modified to reduce surface disturbance within the Tiehm's buckwheat (Eriogonum tiemii) designated critical habitat. Surface disturbance under Alternative B would be less than Alternative A and total approximately 2,271 acres.

Under Alternative C, the No Action Alternative, the development of the Project would not be authorized and Ioneer would not construct, operate, and close a new lithium-boron mine project.

Lead and Cooperating Agencies

The BLM Battle Mountain District Office is the lead agency for the EIS. The Nevada Department of Wildlife, the Nevada Division of Forestry, the U.S. Department of Energy, the U.S. Fish and Wildlife Service—Ecological Services, the U.S. Fish and Wildlife Service—Migratory Birds Program, the U.S. Environmental Protection Agency, and the Esmeralda County Board of County Commissioners have participated in this environmental analysis as cooperating agencies. Several Native American Tribes have also participated in the environmental analysis.

Schedule for the Decision-Making Process

Consistent with the NEPA and the BLM's land use planning regulations, the BLM is providing a 30-day public review period for the Final EIS and will not issue a decision on the proposal for a minimum of 30 days after the date that EPA publishes its NOA in the Federal Register.

(Authority: 40 CFR 1506.6, 40 CFR 1506.10)

Jon D. Sherve,
District Manager, Battle Mountain District.

[FR Doc. 2024-21580 Filed 9-19-24; 8:45 am]

BILLING CODE 4331-21-P